DEPARTMENT OF TRANSPORTATION

Federal Aviation Administration

14 CFR Part 97

[Docket No. 30551 Amdt. No. 3219]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 31, 2007. The compliance date for each SIAP and/or Weather Takeoff Minimums is specified in the amendatory provisions.

The incorporation by reference of certain publications listed in the regulations is approved by the Director of the Federal Register as of May 31, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169; or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation involves only an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on May 18, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 05 July 2007

McGrath, AK, McGrath, RNAV (GPS) RWY 16, Orig

McGrath, AK, McGrath, LOC/DME RWY 16, Amdt 3

McGrath, AK, McGrath, VOR-A, Amdt 8

McGrath, AK, McGrath, VOR/DME-C, Amdt 1

McGrath, AK, McGrath, VOR/DME OR TACAN RWY 16, Amdt 1

McGrath, AK, McGrath, GPS RWY 16, Orig, CANCELLED

McGrath, AK, McGrath, Takeoff Minimums and Obstacle DP, Amdt 2

St. Michael, AK, St. Michael, RNAV (GPS) RWY 20, Amdt 1

Selawik, AK, Selawik, RNAV (GPS) RWY 4, Orig

Selawik, AK, Selawik, RNAV (GPS) RWY 27, Orig

Selawik, AK, Selawik, RNAV (GPS) Y RWY 22, Orig

Selawik, AK, Selawik, RNAV (GPS) Z RWY 22, Orig

Selawik, AK, Selawik, VOR RWY 4, Amdt 1

Selawik, AK, Selawik, VOR RWY 22, Amdt 1

Selawik, AK, Selawik, GPS RWY 27, Orig, CANCELLED

Selawik, AK, Selawik, Takeoff Minimums and Obstacle DP, Amdt 1

Auburn, AL, Auburn-Opelika Robert G Pitts, ILS OR LOC RWY 36, Orig

Auburn, AL, Auburn-Opelika Robert G Pitts, LOC RWY 36, Amdt 3, CANCELLED

Auburn, AL, Auburn-Opelika Robert G Pitts, Takeoff Minimums and Textual DP, Orig

Birmingham, AL, Birmingham Intl, ILS OR LOC/DME RWY 24, Amdt 1

Decatur, AL, Pryor Field Rgnl, RNAV (GPS) RWY 36, Amdt 1

Hartselle, AL, Rountree Field, RNAV (GPS) RWY 18, Orig

Hartselle, AL, Rountree Field, RNAV (GPS) RWY 36, Orig

Hartselle, AL, Rountree Field, GPS RWY 36, Orig, CANCELLED

Hartselle, AL, Rountree Field, NDB OR GPS-A, Amdt 2, CANCELLED

Hartselle, AL, Rountree Field, Takeoff Minimums and Obstacle DP, Amdt 2

Ozark, AR, Ozark-Franklin County, Takeoff Minimums and Obstacle DP, Amdt 1

Hayward, CA, Hayward Executive, RNAV (GPS) Y RWY 28L, Orig

Hayward, CA, Hayward Executive, RNAV (GPS) Z RWY 28L, Orig

Hayward, CA, Hayward Executive, GPS RWY 28L, Orig-A, CANCELLED

Long Beach, CA, Long Beach/Daugherty Field, Takeoff Minimums and Obstacle DP, Amdt 4

Colorado Springs, CO, City of Colorado Springs Muni, ILS OR LOC RWY 35R, Orig

Colorado Springs, CO, City of Colorado Springs Muni, RNAV (GPS) RWY 35R, Amdt 2

Pueblo, CO, Pueblo Memorial, RNAV (GPS) RWY 26R, Amdt 1A

Washington, DC, Washington Dulles Intl, ILS OR LOC/DME RWY 12, Amdt 8

Washington, DC, Washington Dulles Intl, ILS OR LOC RWY 19L, Amdt 13

Washington, DC, Washington Dulles Intl, CONVERGING ILS RWY 19L, Amdt 7

Washington, DC, Washington Dulles Intl, CONVERGING ILS RWY 19R, Amdt 7

Washington, DC, Washington Dulles Intl, ILS OR LOC/DME RWY 19R, ILS RWY 19R (CAT II), ILS RWY 19R, (CAT III), Amdt 24

Dover/Cheswold, DE, Delaware Airpark, Takeoff Minimums and Obstacle DP, Orig

Dover/Cheswold, DE, Delaware Airpark, RNAV (GPS) RWY 9, Orig

Dover/Cheswold, DE, Delaware Airpark, GPS RWY 9, Amdt 1, CANCELLED

Dover/Cheswold, DE, Delaware Airpark, RNAV (GPS) RWY 27, Orig

Dover/Cheswold, DE, Delaware Airpark, GPS RWY 27, Amdt 1, CANCELLED

Middletown, DE, Summit, RNAV (GPS) RWY 17, Amdt 1A

Daytona Beach, FL, Daytona Beach Intl, LOC BC RWY 25R, Amdt 16

Fort Myers, FL, Southwest Florida Intl, RNAV (GPS) RWY 6, Amdt 1B

Fort Myers, FL, Southwest Florida Intl, RNAV (GPS) RWY 24, Amdt 1B

Fort Myers, FL, Southwest Florida Intl, VOR/DME OR TACAN RWY 23, Orig, CANCELLED

Fort Myers, FL, Southwest Florida Intl, NDB RWY 5, Orig, CANCELLED

Fort Myers, FL, Southwest Florida Intl, LOC RWY 5, Orig, CANCELLED

Melbourne, FL, Melbourne Intl, Takeoff Minimums and Obstacle DP, Amdt 1

St Petersburg, FL, Albert Whitted, RNAV (GPS) RWY 6, Orig

St Petersburg, FL, Albert Whitted, RNAV (GPS) RWY 18, Orig

St Petersburg, FL, Albert Whitted, RNAV (GPS) RWY 36, Orig

St Petersburg, FL, Albert Whitted, VOR RWY 18, Amdt 7

Tampa, FL, Tampa Intl, Takeoff Minimums and Textual DP, Amdt 7

Albany, GA, Southwest Georgia Regional, NDB RWY 4, Amdt 12

Atlanta, GA, Cobb County-McCollum Field, RNAV (GPS) RWY 9, Amdt 2

Atlanta, GA, Cobb County-McCollum Field, RNAV (GPS) RWY 27, Amdt 2

Atlanta, GA, Fulton County Arpt-Brown Field, RNAV (GPS) RWY 26, Orig

Atlanta, GA, Fulton County Arpt-Brown Field, RNAV (GPS) Y RWY 8, Orig

Atlanta, GA, Fulton County Arpt-Brown Field, GPS RWY 26, Orig, CANCELLED

Honolulu, HI, Honolulu Intl, RNAV (RNP) Z RWY 4R, Orig

Honolulu, HI, Honolulu Intl, RNAV (GPS) Y RWY 4R, Amdt 1

Lihue, HI, Lihue, VOR-A, Amdt 4

Lihue, HI, Lihue, VOR/DME OR TACAN RWY 21, Amdt 4

Lihue, HI, Lihue, VOR OR TACAN RWY 35, Amdt 7

Lihue, HI, Lihue, RNAV (GPS) Y RWY 21, Orig-B

Lihue, HI, Lihue, RNAV (RNP) Z RWY 21, Orig

Lihue, HI, Lihue, RNAV (GPS) Y RWY 35, Orig-D

Lihue, HI, Lihue, RNAV (RNP) Z RWY 35, Orig

Chicago, IL, Chicago-O'Hare Intl, RNAV (GPS) RWY 32L, Amdt 2

Chicago, IL, Chicago-O'Hare Intl, RNAV (GPS) RWY 32R, Amdt 1

Chicago, IL, Chicago-O'Hare Intl, Takeoff Minimums and Obstacle DP, Amdt 14

Estherville, IA, Estherville Muni, RNAV (GPS) RWY 16, Amdt 1

Estherville, IA, Estherville Muni, RNAV (GPS) RWY 34, Amdt 1

Estherville, IA, Estherville Muni, Takeoff Minimums and Obstacle DP, Orig

Garden City, KS, Garden City Regional, RNAV (GPS) RWY 12, Orig

Garden City, KS, Garden City Regional, RNAV (GPS) RWY 17, Orig

Garden City, KS, Garden City Regional, RNAV (GPS) RWY 30, Orig

Garden City, KS, Garden City Regional, RNAV (GPS) RWY 35, Orig

Garden City, KS, Garden City Regional, VOR RWY 17, Amdt 11

Garden City, KS, Garden City Regional, VOR/DME RWY 30, Amdt 1

Garden City, KS, Garden City Regional, VOR/DME RWY 35, Amdt 2

Garden City, KS, Garden City Regional, Takeoff Minimums and Textual DP, Orig Elizabethtown, KY, Addington Field, LOC RWY 5, Orig

Middlesboro, KY, Middlesboro-Bell County, Takeoff Minimums and Obstacle DP, Orig

Vineyard Haven, MA, Marthas Vineyard, ILS OR LOC RWY 24, Amdt 2

Vineyard Haven, MA, Marthas Vineyard, RNAV (GPS) RWY 6, Orig

Vineyard Haven, MA, Marthas Vineyard, RNAV (GPS) RWY 24, Amdt 1

Detroit, MI, Detroit Metropolitan Wayne County, ILS OR LOC RWY 22L, Amdt 28

Bolivar, MO, Bolivar Municipal, RNAV (GPS) RWY 18, Orig

Bolivar, MO, Bolivar Municipal, RNAV (GPS) RWY 36, Orig

Bolivar, MO, Bolivar Municipal, GPS RWY 18, Orig, CANCELLED

Bolivar, MO, Bolivar Municipal, GPS RWY 36, Orig, CANCELLED

Bolivar, MO, Bolivar Municipal, Takeoff Minimums and Obstacle DP, Orig

Columbus/W Point/Starkville, MS, Golden Triangle Regional, GPS RWY 18, Orig-A, CANCELLED

Columbus/W Point/Starkville, MS, Golden Triangle Regional, RNAV (GPS) RWY 18, Orig

Laurel, MS, Hesler-Noble Field, RNAV (GPS) RWY 13, Orig

Laurel, MS, Hesler-Noble Field, RNAV (GPS) RWY 31, Orig

Laurel, MS, Hesler-Noble Field, GPS RWY 13, Orig, CANCELLED

Laurel, MS, Hesler-Noble Field, GPS RWY 31, Orig, CANCELLED

Starkville, MS, George M Bryan, LOC/DME RWY 36, Orig

Anaconda, MT, Bowman Field, Takeoff Minimums and Obstacle DP, Amdt 1

Imperial, NE, Imperial Muni, RNAV (GPS) RWY 13, Orig

Imperial, NE, Imperial Muni, RNAV (GPS) RWY 31, Amdt 1

Newark, NJ, Newark Liberty Intl, RNAV (GPS) Z RWY 22L, Amdt 1B

Akron, OH, Akron-Canton Rgnl, Radar 1, Amdt 23

Salem, OR, McNary Fld, ILS OR LOC RWY 31, Amdt 28

Latrobe, PA, Arnold Palmer Regional, ILS OR LOC RWY 23, Amdt 16

Latrobe, PA, Arnold Palmer Regional, RNAV (GPS) RWY 5, Orig

Latrobe, PA, Arnold Palmer Regional, RNAV (GPS) RWY 23, Orig

Latrobe, PA, Arnold Palmer Regional, GPS RWY 05, Orig, CANCELLED

Pottstown, PA, Pottstown Muni, Takeoff Minimums and Obstacle DP, Amdt 1

Darlington, SC, Darlington County Jetport, RNAV (GPS) RWY 23, Orig

Darlington, SC, Darlington County Jetport, NDB RWY 23, Amdt 1

Darlington, SC, Darlington County Jetport, Takeoff Minimums and Obstacle DP, Orig

Darlington, SC, Darlington County Jetport, VOR/DME-A, Amdt 7

Elizabethton, TN, Elizabethton Muni, Takeoff Minimums and Textual DP, Orig

Nashville, TN, Nashville Intl, ILS OR LOC RWY 2R, Amdt 6, ILS RWY 2R (CAT II), ILS RWY 2R (CAT III)

Nashville, TN, Nashville Intl, ILS OR LOC RWY 31, Amdt 8

Dallas, TX, Dallas Love Field, ILS OR LOC RWY 31L, Amdt 20

Dallas, TX, Dallas Love Field, ILS OR LOC RWY 31R, Amdt 4

Dallas, TX, Dallas Love Field, RNAV (GPS) Y RWY 13L, Orig

Dallas, TX, Dallas Love Field, RNAV (GPS) Y RWY 13R, Orig

Dallas, TX, Dallas Love Field, RNAV (GPS) Z RWY 13L, Orig-A

Dallas, TX, Dallas Love Field, RNAV (GPS) Z RWY 13R, Orig-A

Front Royal, VA, Front Royal-Warren County, RNAV (GPS)-A, Orig

Lynchburg, VA, Falwell, Takeoff Minimums and Obstacle DP, Amdt 1

Newport News, VA, Williamsburg Intl, Takeoff Minimums and Obstacle DP, Orig

Wise, VA, Lonesome Pine, RNAV (GPS) RWY 6, Orig

Pasco, WA, Tri-Cities, ILS OR LOC RWY 21R, Amdt 11

Pasco, WA, Tri-Cities, RNAV (GPS) RWY 21R, Orig

Seattle, WA, Seattle-Tacoma Intl, ILS OR LOC/DME RWY 34C, Amdt 1, ILS RWY 34C (CAT II)

Eagle River, WI, Eagle River Union, RNAV (GPS) RWY 22, Orig

Eagle River, WI, Eagle River Union, NDB RWY 22, Amdt 6

[FR Doc. E7-10265 Filed 5-30-07; 8:45 am]

BILLING CODE 4910-13-P